FEDERAL COMMUNICATIONS COMMISSION

47 CFR Part 73

[DA 03-816; MB Docket No. 03-77; RM-10660]

Radio Broadcasting Services; Ashland, AL, Atlanta, GA, Coaling, Cordova, Decatur, Dora, Hackleburg, Hobson City, Holly Pond, Midfield, Sylacauga, and Tuscaloosa, AL

AGENCY: Federal Communications Commission.

ACTION: Proposed rule.

SUMMARY: This Notice of Proposed Rule Making requests comments on a petition for rule making filed jointly by Cox Radio, Inc. and its wholly-owned subsidiary CXR Holdings, Inc. Cox proposes to downgrade Station WBHJ(FM), Channel 239C1 to Channel 239C2 and move the station from Tuscaloosa, Alabama, to Midfield, Alabama, as Midfield's first local aural transmission service. To accommodate the foregoing changes, Cox proposes to (a) reallot Channel 238A, Station WFMH-FM, from Holly Pond, Alabama, to Hackleburg, Alabama, as Hackleburg's first local service; (b) replace the local service at Holly Pond by reallotting Channel 245C, Station WRSA(FM), from Decatur, Alabama, to Holly Pond; (c) reallot Channel 237A , Station WFFN(FM), from Cordova, Alabama, to Coaling, Alabama, as Coaling's first local service; (d) and replace the local service at Cordova by reallotting Channel 223A, Station WQOP-FM, from Dora, Alabama, to Cordova. Further, Cox proposes to (e) reallot Channel 238A, Station WASZ(FM), from Ashland, Alabama, to Hobson City, Alabama, as Hobson City's first local FM and second local aural transmission service; (f) replace the sole local operating service at Ashland by reallotting Channel 252A, Station WTRB-FM, from Sylacauga to Ashland; and (g) to accommodate the reallotment of Channel 252A to Ashland, to reclassify Channel 253C, Station WSB-FM, Atlanta, Georgia, to Channel 253C0. The licensee of Station WSB-FM, CXR Holdings, Inc. has agreed to the foregoing reclassification. See SUPPLEMENTARY INFORMATION.

DATES: Comments must be filed on or before May 12, 2003, and reply comments on or before May 27, 2003.

ADDRESSES: Secretary, Federal Communications Commission, 445 12th Street, SW., Room TW-A325, Washington, DC 20554. In addition to filing comments with the FCC, interested parties should serve the Joint Petitioners' counsel, as follows: Kevin F. Reed, Esq., Elizabeth A. M. McFadden, Esq., and Nam E. Kim, Esq., Down Lohnes & Albertson, PLLC; 1200 New Hampshire Avenue, NW., Suite 800; Washington, DC 20036.

FOR FURTHER INFORMATION CONTACT: R. Barthen Gorman, Media Bureau, (202) 418-2180.

SUPPLEMENTARY INFORMATION: This is a synopsis of the Commission's notice of proposed rule making, MB Docket No. 03-77, adopted March 19, 2003, and released March 21, 2003. The full text of this Commission decision is available for inspection and copying during regular business hours in the FCC's Reference Information Center at Portals II, 445 12th Street, SW., CY-A257, Washington, DC, 20554. This document may also be purchased from the Commission's duplicating contractors, Qualex International, Portals II, 445 12th Street, SW., Room CY-B402, Washington, DC, 20554, telephone 202-863-2893, facsimile 202-863-2898, or via e-mail qualexint@aol.com. The coordinates for requested Channel 239C2 at Midfield, Alabama are 33-24-50 NL and 87-01-05 WL, with a site restriction of 11.4 kilometers (7.1 miles) southwest of Midfield. The coordinates for requested Channel 238A at Hackleburg, Alabama, are 34-13-15 NL and 87-45-00 WL, with a site restriction of 9.5 kilometers (5.9 miles) southeast of Hackleburg. The coordinates for requested Channel 245C at Holly Pond are 34-29-23 NL and 86-37-38 WL, with a site restriction of 35.1 kilometers (21.8 miles) north of Holly Pond. The coordinates for requested Channel 237A at Coaling, Alabama, are 33-04-58 NL and 87-27-02 WL, with a site restriction of 13.4 kilometers (8.3 miles) southwest of Coaling. The coordinates for requested Channel 223A at Cordova are 33-38-55 NL and 87-09-19 WL, with a site restriction of 12.4 kilometers (7.7 miles) south of Cordova. The coordinates for requested Channel 238A at Hobson City are 33-29-30 NL and 85-52-55 WL, with a site restriction of 14.8 kilometers (9.2 miles) south of Hobson City. The coordinates for requested Channel 252A at Ashland are 33-15-45 NL and 85-54-00 WL, with a site restriction of 6.1 kilometers (3.8 miles) west of Ashland, Alabama.

Cox's reallotment proposals for Stations WBHJ, WFMH-FM, WRSA, WFFN, WQOP-FM, WASZ, and WTRB-FM comply with the provisions of Section 1.420(i) of the Commission's Rules, and therefore, the Commission will not accept competing expressions of interest in the use of Channel 239C2 at Midfield, the use of Channel 238A at Hackleburg, the use of Channel 245C at Holly Pond, the use of Channel 237A at Coaling, the use of Channel 223A at Cordova, the use of Channel 238A at Hobson City, or the use of Channel 252A at Ashland, or require Cox to demonstrate the availability of additional equivalent class channels for use by other parties.

The provisions of the Regulatory Flexibility Act of 1980 do not apply to this proceeding.

Members of the public should note that from the time a notice of proposed rule making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334, and 336.

§ 73.202 [Amended]

2. Section 73.202(b), the Table of FM Allotments under Alabama, is amended by removing Channel 238A and adding Channel 252A at Ashland; by adding Coaling, Channel 237A; by removing Channel 237A and adding Channel 223A at Cordova; by removing Channel 245C at Decatur; by removing Dora, Channel 223A; by adding Hackleburg, Channel 238A; by adding Hobson City, Channel 238A; by removing Channel 238A and adding Channel 245C at Holly Pond; by adding Midfield, Channel 239C2; by removing Sylacauga, Channel 252A; and by removing Channel 239C1 at Tuscaloosa.

3. Section 73.202(b), the Table of FM Allotments under Georgia, is amended by removing Channel 253C and adding Channel 253C0 at Atlanta.

Federal Communications Commission.
John A. Karousos,
Assistant Chief, Audio Division, Media Bureau.

[FR Doc. 03-8754 Filed 4-9-03; 8:45 am]

BILLING CODE 6712-01-P